DEPARTMENT OF JUSTICE

[OMB Number 1140-0018]

Agency Information Collection Activities; Proposed eCollection eComments Requested; Application for Federal Firearms License

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed information collection is published to obtain comments from the public and affected agencies.

DATES: Comments are encouraged and will be accepted for 60 days until January 26, 2015.

FOR FURTHER INFORMATION CONTACT: If you have additional comments especially on the estimated public burden or associated response time, suggestions, or need a copy of the proposed information collection instrument with instructions or additional information, please contact Tracey Robertson, Chief, Federal Firearms Licensing Center, 244 Needy Road, Martinsburg, WV 25405 or email at Tracey.Robertson@atf.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection 1140-0018

1. Type of Information Collection: Revision of an existing collection.

2. The Title of the Form/Collection: Application for Federal Firearms License.

3. The agency form number, if any, and the applicable component of the Department sponsoring the collection:

Form number: ATF Form 7 (5310.12)/7CR (5310.16).

Component: Bureau of Alcohol, Tobacco, Firearms and Explosives, U.S. Department of Justice.

4. Affected public who will be asked or required to respond, as well as a brief abstract:

Primary: Business or other for-profit.

Other: Individuals or households.

Abstract: In accordance with 18 U.S.C. 923(a)(1) each person intending to engage in business as a firearms or ammunition importer or manufacturer, or dealer in firearms shall file an application, pay the required fee with ATF and obtain a license before engaging in business. The information requested on the form will be used to determine eligibility for the license as required by 18 U.S.C. Section 923. Additionally, this form will be used by the public when applying for a Federal firearms license to collect curios and relics to facilitate a personal collection in interstate and foreign commerce. The change to this collection is to combine information from the Application for Federal Firearms License (ATF Form 7 (5310.12)) and the Application for Federal Firearms License (Collector of Curios and Relics) (ATF Form 7CR (5310.16)) into one form. The information requested on the form covers all firearms license types.

5. An estimate of the total number of respondents and the amount of time estimated for an average respondent to respond: An estimated 23,000 respondents will take 30 minutes to complete the form.

6. An estimate of the total public burden (in hours) associated with the collection: The estimated annual public burden associated with this collection is 11,500 hours.

If additional information is required contact: Jerri Murray, Department Clearance Officer, United States Department of Justice, Justice Management Division, Policy and Planning Staff, Two Constitution Square, 145 N Street NE., Room 3E-405B, Washington, DC 20530.

Dated: November 20, 2014.
Jerri Murray,
Department Clearance Officer for PRA, U.S. Department of Justice.

[FR Doc. 2014-27920 Filed 11-24-14; 8:45 am]

BILLING CODE 4410-FY-P